DEPARTMENT OF THE INTERIOR

Bureau of Land Management

[UT-070-99-5101-00; J-608; UTU-77149, UTU-77164, UTU-78301, FERC Doc. No. CP00-68-000]

San Juan County, New Mexico; La Plata, Montezuma, Dolores, and San Miguel Counties, Colorado; and San Juan, Grand, Emery, Carbon, Sanpete, Utah, Juab and Salt Lake Counties, Utah; EIS for a Refined Petroleum Products Pipeline, Natural Gas Pipelines and Utility Corridor Analysis and Plan Amendments

AGENCY: Bureau of Land Management, Utah.

ACTION: Revised Notice of Intent to Prepare an Environmental Impact Statement (EIS) (original notice was published April 28, 1999, (FR Vol. 64, No. 83 p. 23349-23351) for the construction of underground pipeline facilities and above ground structures for the transportation of Refined Petroleum Products and Natural Gas and Notice of Scoping Meetings.

SUMMARY: On April 28, 1999, the Bureau of Land Management, Utah, announced its intent to prepare an Environmental Impact Statement (EIS) and conduct EIS Scoping Meetings for: (1) Construction of Pipeline Facilities and Transportation of refined petroleum products via underground pipeline in San Juan County, New Mexico; La Plata, Montezuma, Dolores, and San Miguel Counties, Colorado; and San Juan, Grand, Emery, Carbon, Sanpete, Utah, Juab and Salt Lake Counties, Utah; and (2) Construction of Pipeline Facilities and Transportation of natural gas via an underground pipeline in Emery, Carbon, Sanpete, Utah, Juab, and Salt Lake Counties. This revised notice is to clarify the proposals, nature of the proposals, responsible officials, roles of responsible officials, and decisions. This revised notice also updates the project schedule and public involvement.

Pursuant to Section 102(2)(C) of the National Environmental Policy Act (NEPA) of 1969, the Bureau of Land Management (BLM), Utah State Office, will be the lead agency directing the preparation of an EIS on the impacts of proposed transportation of refined petroleum products and natural gas through pipelines located on public lands, including BLM and National Forest System, State, and private lands in northwest New Mexico, southwest Colorado, and southeast to north-central Utah. In addition, the EIS will also analyze utility corridors across the Manti-LaSal and Uinta National Forests to identify the use and allocate National Forest System Lands which may or may not expand the existing designated corridors and/or identify other corridors. This analysis may result in Forest Plan amendments to the Manti-LaSal and Uinta National Forest Land and Resource Management Plans. The Federal Energy Regulatory Commission (FERC) and USDA Forest Service, Manti-LaSal and Uinta National Forests, will be participating in the EIS preparation as Cooperating Agencies in accordance with Title 40, Code of Federal Regulations, Section 1501.6. The EIS will address all reasonable alternatives including locating the pipelines on and off USFS and public lands.

SUPPLEMENTARY INFORMATION: Williams Pipeline Company has proposed to transport refined petroleum products to the Wasatch Front in Utah, using a combination of existing pipelines in New Mexico and Colorado, and a new segment of pipeline in Utah from near Crescent Junction, Utah to a terminal on the Wasatch Front. The refined petroleum products would include diesel fuel, fuel oil, jet fuel, and gasoline. In addition to the Williams proposal, Questar Pipeline Company (Questar) and Kern River Gas Transmission Company (Kern River) have proposals to transport natural gas from Price, Utah to the Wasatch Front and connect to an existing Kern River pipeline located in central Juab county and western Utah county. Questar has proposed to loop it's existing pipeline from Price to Payson, provide natural-gas service to the communities of Goshen, Genola, and Elberta, and connect to the existing Kern River Pipeline near Elberta. Kern River has proposed to construct a new pipeline from Price to near Indianola, then to a point just north of Nephi, and then westerly to intersect the existing Kern River Pipeline in Dog Valley.

Preliminary Issues

Issues identified at this time include: biology; visual resources; soils, water, and air resources and quality; threatened, endangered and sensitive plant and animal species; cultural and historic resources; public health and safety; geologic and land stability; roadless areas; multiple entries resulting in repetitive impacts and the ability to meet use demands; capacity of the utility corridor; and social and economic impacts in association with oil and natural gas pipeline construction and operation. Other issues and concerns may be identified through scoping and development of this public notification process.

Possible Alternatives

The EIS will analyze the Proposed Action and No-Action Alternative as well as corridor capacity. Other alternatives may include different routes for portions of the proposed pipelines, fewer but larger pipelines in the corridor, and optional sites for pipeline facilities, as well as mitigating measures to minimize impacts.

Responsible Officials

The Responsible Officials are: Sally Wisely, the BLM Utah State Director (Utah State Office, 324 South State Street, Suite 301, Salt Lake City, Utah 84111; the Manti-LaSal National Forest Supervisor (Manti-LaSal National Forest, 599 West Price River Drive, Price, Utah 84501); and Peter W. Karp, the Uinta National Forest Supervisor (Uinta National Forest, 88 West 100 North, Provo, Utah 84601). Additional information about the natural gas pipeline proposals is available from Paul McKee of the FERC's Office of External Affairs at (202) 208-1088 (refer to Docket No. CP00-68-000).

Decisions to be Made

The purpose of the EIS is to disclose to the public and permitting agencies the environmental impacts of constructing and operating the proposed projects. If one or more of the projects are approved, the participating agencies would take the following actions. The BLM, as the lead agency, would sign the necessary Record of Decision (ROD) for the issuance of right-of-way grants under the Mineral Leasing Act for the pipeline proposals. FERC, as a Cooperating Agency and the regulatory agency for the transmission of natural gas in interstate commerce, would issue the natural gas pipeline companies Certificates of Public Convenience and Necessity under the Natural Gas Act. The Forest Service, as a cooperating agency, would sign the necessary Record(s) of Decision for the Forest Land and Resource Management Plan Amendments (may include standards and guidelines) on the Manti-LaSal and Uinta National Forests. The USFS ROD would also include the use and allocation of National Forest System Lands which may or may not expand the existing designated utility corridor(s) and/or identify other corridor(s).

Tentative Project Schedule

The tentative project schedule is as follows:

• Begin Public Comment Period—April 1999.

• Scoping Meetings—May and June 1999, May 10, 11, 2000.

• Scoping Comment Period Ends—May 17, 2000.

• File Draft EIS—October 1, 2000.

• File Final EIS—February 2001.

• Record of Decision—March, 2001.

Public Scoping Meetings

Nine public scoping meetings were held on the following dates and in the following locations: May 18, 1999, Green River, Utah, May 19, 1999, Moab, Utah, May 20, 1999, Price, Utah, May 25, 1999, Salt Lake City, Utah, May 26, 1999, Payson, Utah, May 27, 1999, Lehi, Utah, June 2, 1999, Dolores, Colorado, June 3, 1999, Durango, Colorado, and June 23, 1999, Price, Utah. Additional public scoping meetings will be held in West Valley City, Utah, on May 10, 2000, and at Nephi, Utah on May 11, 2000.

Public Input Requested

Comments concerning the Proposed Action and EIS should address environmental issues to be considered, feasible alternatives to examine, possible mitigation, and information relevant to or bearing on the Proposed Action.

DATES: An additional comment period for scoping of the EIS will commence with publication of this revised notice. Written comments must be submitted on or before May 19, 2000.

Comments, including names and street addresses of respondents will be available for public review at the BLM Utah State Office and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses, will be made available for public inspection in their entirety.

ADDRESSES: Comments should be sent to LaVerne Steah, EIS Team Leader, Bureau of Land Management, Utah State Office, 324 South State Street, Suite 301, Salt Lake City, UT 84111 or at the website: QWK-EIS.ORG.

FOR FURTHER INFORMATION CONTACT: LaVerne Steah, (801) 539-4114 or e-mail: LaVerne_Steah@blm.gov

Dated: April 10, 2000.
Linda Colville,
Acting Utah State Director.

[FR Doc. 00-9460 Filed 4-18-00; 8:45 am]

BILLING CODE 4310-DQ-U